DEPARTMENT OF LABOR

Office of the Secretary

Presidential Task Force on Employment of Adults With Disabilities; Notice of Postponement of Meeting

The Department of Labor published notice of an open public meeting of the Presidential Task Force on Employment of Adults with Disabilities in the Federal Register on December 17, 2001 (66 FR 64987). That meeting has been postponed. The meeting will be rescheduled and its new date will be announced and published in this publication.

FOR FURTHER INFORMATION CONTACT: Paul Bennett at 202/693-4939 (voice), 202/693-4929 (fax), or 202/693-4920 (TTY).

Dated: January 16, 2002.
Gary B. Reed,
Acting Executive Director, Presidential Task Force on Employment of Adults with Disabilities.

[FR Doc. 02-1624 Filed 1-22-02; 8:45 am]

BILLING CODE 4510-23-M